SMALL BUSINESS ADMINISTRATION

National Regulatory Fairness Hearing; Region III Regulatory Fairness Board

AGENCY: U.S. Small Business Administration (SBA)

ACTION: Notice of open hearing of the Regional Small Business Regulatory Fairness Board.

SUMMARY: The SBA, Office of the National Ombudsman is issuing this notice to announce the location, date and time of the National Regulatory Fairness Hearing. This hearing is open to the public.

DATES: The hearing will be held on Monday, April 27, 2015 from 1:30 p.m. to 5:00 p.m. (EDT).

ADDRESSES: The meeting will be at 901 E Street NW., in the Americas Room, Washington, DC 20004. Persons attending the hearing must enter the building at the 9th Street NW., entrance between E and F Streets NW., with a valid photo identification.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting small businesses.

FOR FURTHER INFORMATION CONTACT: The hearing is open to the public; however, advance notice of attendance is requested. Anyone wishing to attend and/or make a presentation to the Region III Regulatory Fairness Board must contact José Méndez by April 20, 2015 in writing, by fax or email at ombudsman-events@sba.gov in order to be placed on the agenda. For further information, please contact José Méndez, Case Management Specialist, Office of the National Ombudsman, 409 3rd Street SW., Suite 7125, Washington, DC 20416, by phone (202) 205-6178 and fax (202) 481-5719. Additionally, if you need accommodations because of a disability, translation services, or require additional information, please contact José Méndez as well.

For more information on the Office of the National Ombudsman, see our Web site at www.sba.gov/ombudsman.

Dated: March 24, 2015
Miguel J. L'Heureux,
SBA Committee Management Officer.

[FR Doc. 2015-07062 Filed 3-26-15; 8:45 am]

BILLING CODE 8025-01-P